DEPARTMENT OF EDUCATION

34 CFR Chapter VI

[Docket ID ED-2014-OPE-0036; CFDA Number: 84.016A.]

Proposed Priority—Undergraduate International Studies and Foreign Language (UISFL) Program

AGENCY: Office of Postsecondary Education, Department of Education.

ACTION: Proposed priority.

SUMMARY: The Acting Assistant Secretary for Postsecondary Education proposes a priority for the UISFL Program administered by the International and Foreign Language Education (IFLE) Office. The Acting Assistant Secretary may use this priority for competitions in fiscal year (FY) 2014 and later years. We take this action to focus Federal financial assistance on an identified national need. We intend the priority to address a gap in the types of institutions, faculty and students that have historically benefited from international education opportunities.

DATES: We must receive your comments on or before April 17, 2014.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Patricia Barrett, U.S. Department of Education, 400 Maryland Avenue SW., Room 5142, Potomac Center Plaza (PCP), Washington, DC 20202-2700.

Privacy Note: The Department's policy is to make all comments received from members of the public available for public viewing in their entirety on the Federal eRulemaking Portal at www.regulations.gov. Therefore, commenters should be careful to include in their comments only information that they wish to make publicly available.

FOR FURTHER INFORMATION CONTACT: Tanyelle Richardson Telephone: (202) 502-7626 or by email: Tanyelle.Richardson@ed.gov.

If you use a telecommunications device for the deaf (TDD) or a text telephone (TTY), call the Federal Relay Service (FRS), toll free, at 1-800-877-8339.

SUPPLEMENTARY INFORMATION:

Invitation to Comment: We invite you to submit comments regarding this priority. To ensure that your comments have maximum effect in developing the final priority, we urge you to identify clearly the specific proposed priority or definition that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all comments about the proposed priority in Room 6099, 1990 K St. NW., Washington, DC between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Undergraduate International Studies and Foreign Language (UISFL) Program is to provide grants for planning, developing, and carrying out programs to strengthen and improve undergraduate instruction in international studies and foreign languages.

Program Authority: 20 U.S.C. 1124.

Applicable Program Regulations: 34 CFR parts 655 and 658.

Proposed Priority: This notice contains one proposed priority.

Background:

Through the UISFL Program, the Department makes awards to institutions of higher education, consortia of institutions of higher education, partnerships between nonprofit educational organizations and institutions of higher education, or public and private nonprofit agencies and organizations, including professional and scholarly associations, to plan, develop, and carry out programs to strengthen and improve undergraduate instruction in international studies and foreign languages.

The objective of the UISFL Program is to develop and improve undergraduate curricula, programs, courses, and materials in international studies and foreign languages.

The Department proposes a priority for UISFL applications from Minority-Serving Institutions (MSIs)(as defined in this notice) or community colleges (as defined in this notice), whether individually or as part of a consortium. If the MSI or community college is the lead applicant for a consortium, the application will receive a greater number of points under this priority than it would if the MSI or community college is a partner in a consortia application and not the lead applicant.

This priority aims to increase the number of MSIs and community colleges that become grantees under this program, in order to increase their students' access to academic coursework and instructional activities and training that would better prepare them for the 21st century global economy, careers in international service, and for lifelong engagement with the diverse communities in which they will live, whether at home or abroad. It also aims to increase the access of students attending MSIs and community colleges to academic coursework, instructional activities and training related to foreign language and international studies, ultimately increasing access to careers in international fields for these students. The Department's “International Strategy” expresses the importance of strengthening “the global competencies of all U.S. students, including those from traditionally disadvantaged groups.” Community colleges and MSIs are heavily populated by students from traditionally disadvantaged groups. Currently, opportunities for international studies, foreign language learning, study abroad and other international studies and activities tend to be more limited at two-year institutions than at four-year institutions. In addition, community colleges and MSIs account for a small percentage of all grant recipients in programs funded under title VI of the Higher Education Act of 1965, as amended (HEA). Targeting outreach to these institutions will expand the reach of the UISFL program to traditionally disadvantaged groups.

For this priority, we propose a definition of “Minority-Serving Institution” that includes institutions eligible to receive assistance under sections 316 through 320 of part A of title III, under part B of title III, or under title V of the HEA.

The Department proposes to use this definition because both title III and title V programs target college student populations that are underrepresented in international education.

Title III of the HEA reflects our national interest in supporting those institutions of higher education that serve low-income and minority students so that access to, and quality of, postsecondary education opportunities may be enhanced for all students. Under title III of the HEA, institutions may receive a designation of eligibility depending on their submitted institutional evidence documenting their students' income and demographic data.

Title V of the HEA targets Hispanic-Serving Institutions because of the large percentage of Hispanic Americans who are at high risk of not enrolling or not graduating from institutions of higher education. The law was designed to reduce the disparity between the enrollment of non-Hispanic white students and Hispanic students in postsecondary education, which continues to rise.

We also propose a definition of “community college” that is broader than the definition in the HEA. The proposed definition of “community college” in this notice includes some institutions that award bachelor's and graduate degrees. The definition of “junior or community college” in section 312(f) of the HEA (20 U.S.C. 1058(f)) excludes such institutions. The Department proposes this definition so that institutions that offer bachelor's or graduate degrees are eligible to apply for funding under this program, but only if more than 50 percent of the degrees they award are degrees and certificates that are not bachelor's or graduate degrees. The Department proposes this definition in order to include institutions that serve significant numbers of students enrolled in programs traditionally offered by community colleges, such as associate degree and certificate programs.

Proposed Priority: Applications from Minority-Serving Institutions (MSIs) (as defined in this notice) or community colleges (as defined in this notice), whether as individual applicants or as part of a consortium.

An application from a consortium that has an MSI or community college as the lead applicant will receive more points under this priority than applications where the MSI or community college is a partner in the consortium but not the lead applicant.

A consortium must undertake activities designed to incorporate foreign languages into the curriculum of the MSI or community college and to improve foreign language and international or area studies instruction on the MSI or community college campus.

For the purpose of this priority:

Community college means an institution that meets the definition in section 312(f) of the HEA (20 U.S.C. 1058(f)); or, an institution of higher education (as defined in section 101 of the HEA (20 U.S.C. 1001)) that awards degrees and certificates, more than 50 percent of which are not bachelor's degrees (or an equivalent), or master's, professional, or other advanced degrees.

Minority-Serving Institution (MSI) means an institution that is eligible to receive assistance under sections 316 through 320 of part A of title III, under part B of title III, or under title V of the HEA.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) Awarding additional points, depending on the extent to which the application meets the priority (34 CFR 75.105(c)(2)(i)); or (2) Selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use the priority we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the proposed priority only upon a reasoned determination that its benefits would justify its costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Paperwork Reduction Act of 1995

As part of its continuing effort to reduce paperwork and respondent burden, the Department provides the general public and Federal agencies with an opportunity to comment on proposed and continuing collections of information in accordance with the PRA (44 U.S.C. 3506 (c)(2)(A)).

The Department plans to revise the information collection for the UISFL Program by including more detailed guidance to assist applicants in responding to the Plan of Evaluation selection criterion found in sections 655.31 and 669.21; and, by requiring one new performance measure form (PMF). The PMF will require applicants to identify project goals and project-specific measures for the UISFL project they propose to conduct. Information will also be provided on how applicants, should they become grantees, will meet and report on the Government Performance and Results Act (GPRA) measures that have been developed for the UISFL Program. The IFLE Office developed this PMF so that applicants may propose projects with high-quality implementation plans at the outset and that will require them to lay a stronger foundation for reporting progress and performance results. Additionally, the form will give the Department the capacity to collect and analyze information that is more useful and valid in demonstrating to Congress and other stakeholders the impact of these programs on the entities they serve. This form may result in some additional time requirements in the application preparation, but will reduce the total burden hours for future grantee reporting as the templates are designed for easy data collection and reporting. This form also facilitates the process of developing a sound evaluation plan during the application phase of the process.

The Plan of Evaluation criterion in the UISFL Program regulations evaluates “the quality of the evaluation plan for the project,” and provides that “the methods of evaluation are appropriate for the project and, to the extent possible, are objective and produce data that are quantifiable” among other factors. The detailed guidance that the Department will include in the information collection (application) advises applicants on how to respond to this criterion in a more comprehensive and compelling manner.

In order to standardize the kind of performance data to be requested from applicants, the Department developed a project-specific PMF and a GPRA PMF. These forms contain the same elements: (a) Project goal statement; (b) Performance measure; (c) Project activity; (d) Data/Indicators; (e) Frequency of collection; (f) Data source; and (g) Baseline and targets, but the purposes for the forms differ.

Applicants will submit a project-specific form for each project-specific goal that the institutions have deemed as important to the proposed UISFL project. For that reason, the total number of project-specific PMFs in each application will vary. Applicants will also be provided with a sample GPRA PMF for reference purposes.

The Department expects the new evaluation plan for this information collection will increase the applicant burden by an estimated 10 hours per response for a total burden of 110 hours. The Department believes that this additional time will improve the quality of the submitted applications, and subsequently improve the application review, grant making, and performance reporting processes. When awards are made, grantees will already be fully aware of reporting requirements.

If you want to comment on the proposed information collection requirements, please send your comments to the Office of Information and Regulatory Affairs, OMB, Attention: Desk Officer for U.S. Department of Education. Send these comments by email to OIRA_DOCKET@omb.gov or by fax to (202) 395-6974. You may also send a copy of these comments to the Department contact named in the ADDRESSES section of this preamble or submit electronically through the Federal eRulemaking Portal at http://www.regulations.gov by selecting Docket ID number ED-2014-OPE-0036.

Please be advised that the public comment period for submitting comments on the notice of proposed priorities (NPP) is the same for submitting comments on the information collection (IC); therefore, use the NPP Docket number as the identifier for both sets of comments. You may, however, submit the NPP comments and the IC comments separately in the regulations.gov site.

We have prepared an ICR for this collection. In preparing your comments you may want to review the ICR, which is available at www.reginfo.gov. Click on Information Collection Review. This proposed collection is identified as proposed collection 1840-0796 ED-2014-OPE-0036.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the Information we collect; and

• Minimizing the burden on those who must respond. This includes exploring the use of appropriate automated, electronic, mechanical, or other technological collection techniques.

OMB is required to make a decision concerning the collection of information contained in these proposed regulations between 30 and 60 days after publication of this document in the Federal Register. Therefore, to ensure that OMB gives your comments full consideration, it is important that OMB receives your comments by April 17, 2014. This does not affect the deadline for your comments to us on the proposed regulations.

Intergovernmental Review: This program is subject to Executive Order 12372 and the regulations in 34 CFR Part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 12, 2014.
Lynn B. Mahaffie,
Senior Director, Policy Coordination, Development, and Accreditation Service, delegated the authority to perform the functions and duties of the Assistant Secretary for Postsecondary Education.

[FR Doc. 2014-05855 Filed 3-17-14; 8:45 am]

BILLING CODE 4000-01-P